DEPARTMENT OF COMMERCE

International Trade Administration

DEPARTMENT OF THE INTERIOR

Office of Insular Affairs

[Docket No. 990813222-0035-03]

RIN 0625-AA55

Allocation of Duty-Exemptions for Calendar Year 2002 Among Watch Producers Located in the Virgin Islands

AGENCY: Import Administration, International Trade Administration, Department of Commerce; Office of Insular Affairs, Department of the Interior.

ACTION: Notice; correction.

SUMMARY: The Departments of Commerce and the Interior published a document in the Federal Register of March 5, 2002, concerning the allocation of year 2002 duty-exemptions for watch producers located in the Virgin Island and statistics on 2001 shipments of watches and watch movements into the customs territory of the United States under the Act and the dollar amount of creditable corporate income taxes plus creditable wages paid by Virgin Island watch producers. The document contained information that is incorrect and in need of clarification.

FOR FURTHER INFORMATION CONTACT: Faye Robinson, (202) 482-3526.

Correction

In the Federal Register of March 5, 2002, at 67 FR 9961, in the last paragraph of the second column in the third line “508,506” is corrected to read “528,506”.

Faryar Shirzad,
Assistant Secretary, for Import Administration, Department of Commerce.
Richard Miller,
Acting Director, Office of Insular Affairs, Department of the Interior.

[FR Doc. 02-9917 Filed 4-22-02; 8:45 am]

BILLING CODES 3510-DS-P; 4310-93-P